GENERAL SERVICES ADMINISTRATION

[OMB Control No. 3090-0080]

Submission for OMB Review; Comment Request Entitled Contract Financing

AGENCY: General Services Administration (GSA).

ACTION: Notice of a request for an extension to an existing OMB clearance.

SUMMARY: Under the provisions of the Paperwork Reduction Act of 1995 (44 U.S.C. Chapter 35), the General Services Administration (GSA) has submitted to the Office of Management and Budget (OMB) a request to review and approve an extension of a previously approved information collection requirement concerning Contract Financing. A request for public comments was published at 66 FR 36789, July 13, 2001. No comments were received.

DATES: Comments may be submitted on or before November 19, 2001.

ADDRESSES: Comments regarding this burden estimate or any other aspect of this collection of information, including suggestions for reducing this burden, should be submitted to: Edward Springer, GSA Desk officer, OMB, Room 10236, NEOB, Washington, DC 20503, and a copy to Stephanie Morris, General Services Administration (MVP), 1800 F street, NW., Room 4035, Washington, DC 20405.

FOR FURTHER INFORMATION CONTACT: Jeremy Olson, Acquisition Policy Division, GSA (202) 501-3221.

SUPPLEMENTARY INFORMATION:

A. Purpose

The General Services Administration is requesting the Office of Management and Budget (OMB) to review and approve information collection, 3090-0080, concerning Contract Financing. This clause at 552.232-79 in the GSA Acquisition Manual requires building services contractors to submit a release of claims before final payment is made. GSA Form 1142, Release of Claims, is the vehicle for this release and standardizes information, that eliminates the necessity for contractors to prepare their own release of claims.

B. Annual Reporting Burden.

Respondents: 2,000.

Annual Responses: 2,000.

Average Hours Per Response: .1.

Burden Hours: 200.

Obtaining Copies of Proposals

A copy of this proposal may be obtained from the General Services Administration, Acquisition Policy Division (MVP), 1800 F Street, NW., Room 4035, Washington, DC 20405, or by telephoning (202) 501-4744, or by faxing your request to (202) 501-4067. Please cite OMB Control No. 3090-0080, Contract Financing, in all correspondence.

Dated: October 11, 2001.
Al Matera,
Director, Acquisition Policy Division.

[FR Doc. 01-26292 Filed 10-17-01; 8:45 am]

BILLING CODE 6820-61-M